DEPARTMENT OF DEFENSE

Office of the Secretary

Defense Health Board; Notice of Federal Advisory Committee Meeting

AGENCY: Under Secretary of Defense for Personnel and Readiness, Department of Defense.

ACTION: Notice of Federal Advisory Committee meeting.

SUMMARY: The Department of Defense (DoD) is publishing this notice to announce that the following Federal Advisory Committee meeting of the Defense Health Board will take place.

DATES: Open to the public Tuesday, October 30, 2018, from 9:00 a.m. to 5:00 p.m.

ADDRESSES: The address of the open meeting is Defense Health Headquarters (DHHQ), 7700 Arlington Blvd., Pavilion Salons B and C, Falls Church, VA 22042. (Pre-meeting screening for DHHQ access and registration required. See guidance in SUPPLEMENTARY INFORMATION, “Meeting Accessibility.”)

FOR FURTHER INFORMATION CONTACT: CAPT Juliann Althoff, Medical Corps, U.S. Navy, (703) 275-6060 (Voice), (703) 275-6064 (Facsimile), juliann.m.althoff.mil@mail.mil (Email). Mailing address is 7700 Arlington Boulevard, Suite 5101, Falls Church, Virginia 22042. Website: http://www.health.mil/dhb. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Availability of Materials for the Meeting: Additional information, including the agenda, is available at the DHB website, http://www.health.mil/dhb. A copy of the agenda or any updates to the agenda for the October 30, 2018, meeting will be available on the DHB website. Any other materials presented in the meeting may be obtained at the meeting.

Purpose of the Meeting: The DHB provides independent advice and recommendations to maximize the safety and quality of, as well as access to, health care for DoD health care beneficiaries. The purpose of the meeting is to provide progress updates on specific taskings before the DHB. In addition, the DHB will receive information briefings on current issues related to military medicine.

Agenda: Pursuant to 5 U.S.C. 552b and 41 CFR 102-3.140 through 102-3.165 and subject to availability of space, the meeting is open to the public from 9:00 a.m. to 5:00 p.m. on October 30, 2018. The DHB anticipates receiving a decision brief from the Trauma and Injury Subcommittee on its Low-Volume High-Risk Surgical Procedure Review, a progress update on the Healthy Military Family Systems: Examining Child Abuse and Neglect tasking as well as a Periodic Health Assessment Standardization information briefing and updates related to previously submitted DHB reports. Any changes to the agenda can be found at the link provided in the SUPPLEMENTARY INFORMATION section.

Meeting Accessibility: Pursuant to 5 U.S.C. 552b, and 41 CFR 102-3.140 through 102-3.165 and subject to availability of space, this meeting is open to the public. Seating is limited and is on a first-come basis. All members of the public who wish to attend the public meeting must register by emailing their name, rank/title, and organization/company to dha.ncr.dhb.mbx.defense-health-board@mail.mil or by contacting Ms. Brigid McCarthy at (703) 275-6010 no later than 12:00 p.m. on Tuesday, October 23, 2018. Additional details will be required from all members of the public not having DHHQ access.

Special Accommodations: Individuals requiring special accommodations to access the public meeting should contact Ms. Brigid McCarthy at least five (5) business days prior to the meeting so that appropriate arrangements can be made.

Written Statements: Any member of the public wishing to provide comments to the DHB may do so in accordance with section 10(a)(3) of the Federal Advisory Committee Act, 41 CFR 102-3.105(j) and 102-3.140, and the procedures described in this notice. Written statements may be submitted to the DHB Designated Federal Officer (DFO), CAPT Juliann Althoff, at juliann.m.althoff.mil@mail.mil and should be no longer than two type-written pages and include the issue, a short discussion, and a recommended course of action. Supporting documentation may also be included, to establish the appropriate historical context and to provide any necessary background information. If the written statement is not received at least five (5) business days prior to the meeting, the DFO may choose to postpone consideration of the statement until the next open meeting. The DFO will review all timely submissions with the DHB President and ensure they are provided to members of the DHB before the meeting that is subject to this notice. After reviewing the written comments, the President and the DFO may choose to invite the submitter to orally present their issue during an open portion of this meeting or at a future meeting. The DFO, in consultation with the DHB President, may allot time for members of the public to present their issues for review and discussion by the DHB.

Dated: October 9, 2018.
Aaron T. Siegel,
Alternate OSD Federal Register Liaison Officer, Department of Defense.

[FR Doc. 2018-22233 Filed 10-11-18; 8:45 am]

BILLING CODE 5001-06-P